SMALL BUSINESS ADMINISTRATION

[Declaration of Disaster #P049]

State of Nevada

As a result of the President's major disaster declaration for Public Assistance on August 26, 2004, the U.S. Small Business Administration is activating its disaster loan program only for private non-profit organizations that provide essential services of a governmental nature. I find that Carson City County in the State of Nevada constitutes a disaster area due to damages caused by wildland fire occurring on July 14 through July 27, 2004. Applications for loans for physical damage as a result of this disaster may be filed until the close of business on October 25, 2004, at the address listed below or other locally announced locations: U.S. Small Business Administration, Disaster Area 4 Office, P.O. Box 419004, Sacramento, CA 95841-9004.

The interest rates are:

| Percent
For Physical Damage:
Non-profit organizations without credit available elsewhere | 2.750
Non-profit organizations with credit available elsewhere | 4.875

The number assigned to this disaster for physical damage is P04905.

(Catalog of Federal Domestic Assistance Program Nos. 59008.)
Dated: August 31, 2004.
Cheri L. Cannon,
Acting Associate Administrator for Disaster Assistance.

[FR Doc. 04-20305 Filed 9-7-04; 8:45 am]

BILLING CODE 8025-01-P